ENVIRONMENTAL PROTECTION AGENCY

[FRL-7069-1]

Agency Information Collection Activities: Submission for OMB Review; Comment Request, New Stationary Performance Sources (NSPS) for Hospital/Medical/Infectious Waste Incinerators

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: New Stationary Sources: Hospital/Medical/Infectious Waste Incinerators, 40 CFR part 60, subpart Ec., OMB Control Number 2060-0363, expiration date of September 30, 2001. The ICR describes the nature of the information collection and its expected burden and cost; where appropriate, it includes the actual data collection instrument.

DATES: Comments must be submitted on or before October 29, 2001.

ADDRESSES: Send comments, referencing EPA ICR No. 1730.03 and OMB Control No. 2060-0363, to the following addresses: Susan Auby, U.S. Environmental Protection Agency, Collection Strategies Division (Mail Code 2822), 1200 Pennsylvania Avenue, N.W., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by E-mail at Auby.susan@epamail.epa.gov, or download off the Internet at http://www.epa.gov/icr and refer to EPA ICR No. 1730.03. For technical questions about the ICR contact Jonathan Binder in the Office of Enforcement and Compliance Assurance at (202) 564-2516 or binder.jonathan@epa.gov.

SUPPLEMENTARY INFORMATION:

Title

Information Collection for New Stationary Sources Hospital/Medical/Infectious Waste Incinerators, 40 CFR part 60, subpart Ec., OMB Control Number 2060-0363, expiring 9/30/01. This is a request for extension of a currently approved collection.

Abstract

Hospital/Medical/Infectious Waste Incinerators (HMIWI), burning hospital waste and/or medical infectious waste are subject to specific reporting and recording keeping requirements. Notification reports are required related to the construction, reconstruction, or modification of an HMIWI. Also required are one-time-only reports related to initial performance test data and continuous measurements of site-specific operating parameters. Annual compliance reports are required related to a variety of site-specific operating parameters, including exceedance of applicable limits. Semi-annual compliance reports are required related to emission rate or operating parameter data that were not obtained when exceedances of applicable limits occurred. Affected entities must retain for five years the reports and records that are required under 40 CFR part 60, subpart Ec and 40 CFR part 60, subpart—General Provisions.

Co-fired combustors and incinerators burning only pathological, low-level radioactive, and/or chemotherapeutic waste are required to submit notification reports of an exemption claim, and an estimate of the relative amounts of waste and fuels to be combusted. These co-fired combustors and incinerators are also required to maintain records on a calendar quarter basis of the weight of hospital waste combusted, the weight of medical/infectious waste combusted, and the weight of all other fuels combusted.

All reports required under the New Source Performance Standard (NSPS) and the General Provisions are submitted to the respondent's state, tribal, or local agency, whichever has been delegated enforcement authority by the EPA. The information is used by EPA solely to determine that all sources subject to the NSPS are in compliance with the NSPS and that the control system installed to comply with the standards is being properly operated and maintained. Based on reported information, EPA can decide which facilities should be inspected and what records or processes should be inspected at the facilities. The records that sources maintain would indicate to EPA whether facility personnel are operating and maintaining control equipment properly. The NSPS for HMIWIs requires initial notifications, performance tests, and periodic reports. Owners or operators are also required to maintain records of the occurrence and duration of any start-up, shutdown, or malfunction in the operation of an affected facility, or any period during which the monitoring system is inoperative. These notifications, reports, and records are essential in determining compliance and are required of all sources subject to NSPS. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on April 12, 2001; (66 FR 18927); no comments were received.

Burden Statement

The annual public reporting and record keeping burden for this collection of information is estimated to average 1.9 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Facilities burning hospital waste and/or medical infectious waste.

Estimated Number of Respondents: 6.

Frequency of Response: On occasion, semi-annual, and initial (one-time).

Estimated Total Annual Hour Burden: 4541 hours.

Estimated Total Annualized Capital, O&M Cost Burden: $19618.

Send comments on the Agency's need for this information, the accuracy of the provided burden estimates, and any suggested methods for minimizing respondent burden, including through the use of automated collection techniques to the addresses listed above. Please refer to EPA ICR No.1730.03 and OMB Control No. 2060-0363 in any correspondence.

Dated: September 20, 2001.
Oscar Morales,
Director, Collection Strategies Division.

[FR Doc. 01-24379 Filed 9-27-01; 8:45 am]

BILLING CODE 6560-50-P